POSTAL SERVICE

Market Test of Experimental Product — International Merchandise Return Service—Non-Published Rates

AGENCY: U.S. Postal Service™.

ACTION: Notice.

SUMMARY: The Postal Service hereby gives notice of a market test for International Merchandise Return Service—Non-Published Rates in accordance with statutory requirements.

DATES: As of: August 15, 2013.

FOR FURTHER INFORMATION CONTACT: Kate Sobel, 202-268-6932

SUPPLEMENTARY INFORMATION: The United States Postal Service® hereby gives notice pursuant to 39 U.S.C. 3641(c)(1) that it will begin a market test of its International Merchandise Return Service (IMRS) Non-published Rate (NPR) experimental product on August 15, 2013. The Postal Service has filed with the Postal Regulatory Commission a notice setting out the basis for the Postal Service's determination that the market test is covered by 39 U.S.C. 3641 and describing the nature and scope of the market test. Documents are available at http://www.prc.gov, Docket No. MT2013-2.

Stanley F. Mires,
Attorney, Legal Policy & Legislative Advice.

[FR Doc. 2013-16362 Filed 7-8-13; 8:45 am]

BILLING CODE 7710-12-P